DEPARTMENT OF COMMERCE

Foreign-Trade Zones Board

[B-18-2018]

Foreign-Trade Zone (FTZ) 26—Atlanta, Georgia; Notification of Proposed Production Activity; PBR, Inc. d/b/a/SKAPS Industries (Non-Woven Geotextiles); Athens, Georgia

PBR, Inc. d/b/a/SKAPS Industries (SKAPS) submitted a notification of proposed production activity to the FTZ Board for its facility in Athens, Georgia. The notification conforming to the requirements of the regulations of the FTZ Board (15 CFR 400.22) was received on March 9, 2018.

SKAPS' facility is located within Site 29 of FTZ 26. The facility currently has authority to produce non-woven geotextile fabric using polypropylene staple fiber (PPSF) for a five-year period (until August 23, 2018) subject to a restriction requiring admission of all foreign-status PPSF to the zone under privileged foreign status (19 CFR 146.41). SKAPS' current notification would extend that restricted authority indefinitely.

Pursuant to 15 CFR 400.14(b), FTZ activity would be limited to the specific foreign-status material and specific finished products described in the submitted notification (as described below) and subsequently authorized by the FTZ Board.

Production under FTZ procedures could exempt SKAPS from customs duty payments on the foreign-status material used in its export production of non-woven geotextiles (duty-free). SKAPS would be able to avoid duty on foreign-status material which become scrap/waste. Customs duties also could possibly be deferred or reduced on foreign-status production equipment.

The material sourced from abroad is PPSF (duty rate 4.3%), which will be admitted to the zone in privileged foreign status (19 CFR 146.41), thereby precluding inverted tariff benefits.

Public comment is invited from interested parties. Submissions shall be addressed to the Board's Executive Secretary at the address below. The closing period for their receipt is May 8, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: March 23, 2018.
Andrew McGilvray,
Executive Secretary.

[FR Doc. 2018-06350 Filed 3-28-18; 8:45 am]

BILLING CODE 3510-DS-P